DEPARTMENT OF ENERGY

Federal Energy Regulatory Commission

[Docket Nos. EG13-6-000, et al]

North Sky River Energy, LLC, et al; Notice of Effectiveness of Exempt Wholesale Generator Status

| Docket Nos.
North Sky River Energy, LLC | EG13-6-000
Black Bear SO, LLC | EG13-7-000
Black Bear Development Holdings, LLC | EG13-8-000
Shiloh IV Lessee, LLC | EG13-9-000
Grand Ridge Energy IV LLC | EG13-10-000

Take notice that during the month of January 2013, the status of the above-captioned entities as Exempt Wholesale Generators Companies became effective by operation of the Commission's regulations. 18 CFR 366.7(a).

Dated: February 8, 2013.
Kimberly D. Bose,
Secretary.

[FR Doc. 2013-03500 Filed 2-14-13; 8:45 am]

BILLING CODE 6717-01-P